DEPARTMENT OF ENERGY

Federal Energy Regulatory Commission

Notice of Effectiveness of Exempt Wholesale Generator and Foreign Utility Company Status

| Docket Nos.
Sholes Energy Storage, LLC | EG25-342-000
Greeley Wind Nebraska, LLC | EG25-343-000
Rumble Solar, LLC | EG25-344-000
Elawan Cibeles Solar LLC | EG25-345-000
Sypert Branch Solar LLC | EG25-346-000
Anson Solar Center 2, LLC | EG25-348-000
Aggreko MSR Grid PC2 LLC | EG25-349-000
Aggreko MSR Grid PC5 LLC | EG25-350-000
Aggreko MSR Grid PC7 LLC | EG25-351-000
Ventasso Energy Storage, LLC | EG25-352-000
AL Solar G, LLC | EG25-353-000
AL Solar H, LLC | EG25-354-000
Emerald Green Solar LLC | EG25-355-000
Angiola East, LLC | EG25-356-000
SunZia Wind North LLC | EG25-357-000
SunZia Wind South LLC | EG25-358-000
Tilden Solar LLC | EG25-359-000
Vertus Energy Storage LLC | EG25-360-000
Clean Energy Future—Trumbull, LLC | EG25-361-000
Kelso Solar LLC | EG25-362-000
64NB 8me LLC | EG25-363-000
OSCII Gildersleeve, LLC | EG25-364-000
West Boylston Energy Storage I LLC | EG25-365-000
Kelso 2 Solar LLC | EG25-366-000
Mowata Solar, LLC | EG25-367-000
Juliet Energy Project, LLC | EG25-368-000
Jones City Energy Storage, LLC | EG25-369-000
Jones City Solar II, LLC | EG25-370-000
Desert Pine Storage, LLC | EG25-371-000
Desert Pine Solar, LLC | EG25-372-000
Fiddle Leaf Solar, LLC | EG25-373-000
Emily Solar, LLC | EG25-374-000
Big Cajun I Units I and II LLC | EG25-375-000
Biscayne Falls SPV, LLC | EG25-376-000
174PG Torreon S. de RL de CV | FC25-3-000

Take notice that during the month of August 2025, the status of the above-captioned entities as Exempt Wholesale Generators or Foreign Utility Companies became effective by operation of the Commission's regulations. 18 CFR 366.7(a) (2025).

Dated: September 2, 2025.
Carlos D. Clay,
Deputy Secretary.

[FR Doc. 2025-17024 Filed 9-4-25; 8:45 am]

BILLING CODE 6717-01-P